DEPARTMENT OF TRANSPORTATION

Federal Aviation Administration

14 CFR Part 71

[Docket No. FAA-2018-0437; Airspace Docket No. 18-ASO-5]

RIN 2120-AA66

Establishment and Modification of Area Navigation Routes, Florida Metroplex Project; Southeastern United States

AGENCY: Federal Aviation Administration (FAA), DOT.

ACTION: Final rule.

SUMMARY: This action establishes 16 high altitude area navigation (RNAV) routes (Q-routes), and modifies 7 existing Q-routes, in support of the Florida Metroplex Project. The routes were developed to improve the efficiency of the National Airspace System (NAS) and reduce dependency on ground-based navigational systems that cause system inefficiencies due to their limitations. This action also makes minor corrections to the waypoint names and geographic coordinates of certain Q-routes.

DATES: Effective date 0901 UTC, November 8, 2018. The Director of the Federal Register approves this incorporation by reference action under Title 1, Code of Federal Regulations, part 51, subject to the annual revision of FAA, Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to http://www.archives.gov/federal-register/cfr/ibr-locations.html.

FAA Order 7400.11, Airspace Designations and Reporting Points, is published yearly and effective on September 15.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports the air traffic service route structure in the southeastern United States to maintain the efficient flow of air traffic.

History

The FAA published a notice of proposed rulemaking in the Federal Register for Docket No. FAA-2018-0437 (83 FR 26612; June 8, 2018) to establish 16 high altitude area navigation (RNAV) routes (Q-routes), and modify 7 existing Q-routes in support of the Florida Metroplex Project. Interested parties were invited to participate in this rulemaking effort by submitting written comments on the proposal. One comment was received.

Area navigation routes are published in paragraph 2006, of FAA Order 7400.11B dated August 3, 2017, and effective September 15, 2017, which is incorporated by reference in 14 CFR 71.1. The area navigation routes listed in this document will be subsequently published in the Order.

Discussion of Comment

The commenter did not present an objection to the proposal, but posed questions regarding the benefits of the stated reduction in air traffic control sector complexity; reduced pilot-to-air traffic controller communications; and details of the expected increases in NAS capacity that were noted in the NPRM.

The implementation of these routes will reduce sector complexity and air traffic controller workload by reducing the need for offset radar vectors when climbing and descending air traffic. The routes will deconflict dedicated route options when transitioning departures and arrivals from the overhead streams. Additionally, the routes will create parallel, de-conflicted routes to achieve higher throughput, more optimal altitudes, and increased routing options, particularly in constricted airspace along the mid-Atlantic U.S. coast. These initiatives are expected to reduce air traffic controller and pilot workload as well as enhance NAS efficiency.

Regarding NAS capacity improvements, the implementation of the routes will contribute to the integration of recent Metroplex work along the East Coast into the high altitude enroute structure. Capacity will be enhanced through more efficient routings, reduced delays, and increased flexibility for users. Further, the routes will eliminate reliance on the ground-based navigation aid (NAVAID) structure and will enable the VOR Minimum Operational Network (VOR MON) Program to achieve its cost reduction objectives associated with the decommissioning of designated NAVAIDs. The FAA monitors a number of NAS performance metrics on a daily basis. Additionally, various forecasts are available, such as the FAA Aerospace Forecast, which projects future aviation activity and demand for FAA services. Based on analysis of these data, adjustments can be made where necessary.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Differences From the NPRM

Minor editorial corrections are made to the descriptions of a number of Q-routes as listed below:

In Q-65: The “LORN” WP is corrected to read “LORNN” WP.

In Q-77: The latitude coordinate for the WIGVO, GA, WP is changed from “lat. 32°37′24.00″ N,” to read “lat. 32°27′24.00″ N”.

In Q-81: The “BITN” WP is corrected to read “BITNY” WP.

In Q-89: The following WP is inserted between the PRMUS, FL, and the YANTI, GA, WPs: “SHRKS, FL WP (lat. 30°37′23.23″ N, long. 81°45′59.13″ W)”.

In Q-93 and Q-97: The “WOPN” WP is corrected to read “WOPNR” WP.

In Q-109: The spelling of “LAAN, NC” in the route title line is corrected to read “LAANA, NC.” Additionally, the location for the SESUE WP was incorrectly listed as “GA”. The correct location is “SC”.

In Q-409: The location for the SESUE WP was incorrectly listed as “GA”. The correct location is “SC”.

The Rule

The FAA is amending Title 14, Code of Federal Regulations (14 CFR) part 71 by establishing 16 new Q-routes, and amend 7 existing Q-routes, in the southeastern United States in support of the Florida Metroplex Project. The new routes are designated Q-75, Q-77, Q-79, Q-81, Q-83, Q-85, Q-87, Q-89, Q-93, Q-97, Q-99, Q-109, Q-113, Q-135, Q-172, and Q-409. In addition, existing routes Q-65, Q-69, Q-103, Q-104, Q-110, Q-116, and Q-118 are amended. The end points of the new and amended routes are listed below. Full route descriptions are in “The Amendment” section of this rule. The full route descriptions include the corrections listed in the “Differences from the NPRM” section, above.

The new Q-routes are as follows:

Q-75: Q-75 extends between the ENEME, GA, WP (in southeast GA) and the Greensboro, NC, VORTAC.

Q-77: Q-77 extends between the OCTAL, FL, WP (on the southeast FL coast) and the WIGVO, GA, WP (near Union, GA).

Q-79: Q-79 extends between the MCLAW, FL, WP (near the Florida Keys) and the Atlanta, GA, VORTAC. This provides linkage to routes going to the Caribbean area.

Q-81: Q-81 extends between the TUNSL, FL, WP (near the FL Keys) and the HONID, GA, WP (in southwest GA).

Q-83: Q-83 extends between the JEVED, GA, WP (off the southeast GA coast) and the SLOJO, SC, WP (in northern SC).

Q-85: Q-85 extends between the LPERD, FL, WP (off the northeast FL coast) and the SMPRR, NC, WP (in southern NC).

Q-87: Q-87 extends between the PEAKY, FL, WP (near Marathon, FL) and the LCAPE, SC, WP (near the SC-NC line).

Q-89: Q-89 extends between the MANLE, FL, WP (off the central Florida coast) and the Atlanta, GA, VORTAC.

Q-93: Q-93 extends between the MCLAW, FL, WP (near the Florida Keys) and the QUIWE, SC, WP (in southwest SC).

Q-97: Q-97 extends between the TOVAR, FL, WP (along the southeast Florida coast) and the ELLDE, NC, WP (in southern NC).

Q-99: Q-99 extends between the DOFFY, FL, WP (in northern Florida) and the POLYY, NC, WP (near the SC-NC line).

Q-109: Q-109 extends between the DOFFY, FL, WP (in northern Florida) and the LAANA, NC, WP (in southern NC).

Q-113: Q-113 extends between the RAYVO, SC, WP (in east central SC) and the SARKY, SC, WP (near the SC-NC line).

Q-135: Q-135 extends between the JROSS, SC, WP (north of Beaufort, SC) and the RAPZZ, NC, WP (in southern NC).

Q-172: Q-172 extends between the YUTEE, SC, WP (in western SC) and the RAPZZ, NC, WP (in southern NC).

Q-409: Q-409 extends between the ENEME, GA, WP (in southeast GA) and the MRPIT, NC, WP (in southern NC).

The amended Q-routes are as follows:

Q-65: Q-65 currently extends between the JEFOI, GA, WP and the Rosewood, OH, VORTAC. The route is extended to approximately 200 nautical miles (NM) south of the JEFOI, GA, WP to the KPASA, FL, WP. The KPASA, FL; DOFFY, FL; FETAL, FL; and ENEME, GA, WPs are added prior to the JEFOI, GA, WP. The TRASY, GA, WP is added between the JEFOI, GA, and the CESKI, GA, WPs.

Q-69: Q-69 currently extends between the BLAAN, SC, WP and the RICCS, WV, WP. The route is extended approximately 210 NM to the south of the BLAAN, SC, WP to the VIYAP, GA, Fix (located near Brunswick, GA). The extended route segments consist the of VIYAP, GA, fix; OLBEC, GA, WP; ISUZO, GA, WP; and the GURGE, SC, WP. The EMCET, SC, WP is inserted between the BLAAN, SC, WP and the RYCKI, NC, WP.

Q-103: Q-103 currently extends between the Pulaski, VA, VORTAC and the AIRRA, PA, WP. The route is extended to the south of the Pulaski, VA, VORTAC to the CYNTA, GA, WP (in southeastern GA). The extended segments consist of the CYNTA, GA, WP; PUPYY, GA, WP; RIELE, SC, WP; EMCET, SC, WP; and the SLOJO, SC, WP.

Q-104: Q-104 currently extends between the DEFUN, FL, fix, and the Cypress, FL, VOR/DME. The route is amended by removing the DEFUN, FL, fix; and the Cypress, FL, VOR/DME from the route. The ACORI, AL, WP, and the CABLO, GA, WP, are added prior to the HEVVN, FL, fix. The ENDEW, FL, WP is added between the SWABE, FL, fix and the St. Petersburg, FL, VORTAC.

Q-110: Q-110 currently extends between the BLANS, IL, WP, and the THNDR, FL, Fix. The amended route is the same as currently charted between the BLANS, IL, WP and the JYROD, AL, WP. Beyond that point, the route is realigned to terminate at the new OCTAL, FL, WP (on the southeast FL coast). The FEONA, GA; GULFR, FL; BRUTS, FL; KPASA, FL; RVERO, FL; WPs, and the THNDR, FL, fix, are removed. The DAWWN, GA; JOKKY, FL; AMORY, FL; SMELZ, FL; and SHEEK, FL waypoints are inserted between the JYROD, AL, WP and the JAYMC, FL, WP. After JAYMC, the route proceeds to the OCTAL, FL, WP.

Q-116: Q-116 currently extends between the KPASA, FL, WP, and the CEEYA, GA, WP. The current KPASA, FL; BRUTS, FL; GULFR, FL; and CEEYA, GA, waypoints are removed. The route is expanded and realigned to extend between the Vulcan, AL, VORTAC and the OCTAL, FL, WP (on the southeast FL coast). The following waypoints are added between the Vulcan, AL, VORTAC and the OCTAL, FL, WP: DEEDA, GA; JAWJA, FL; MICES, FL; PATOY, FL; SMELZ, FL; SHEEK, FL; and JAYMC, FL.

Q-118: Q-118 currently extends between the Marion, IN, VOR/DME and the KPASA, FL, WP. The amended route adds the Atlanta, GA, VORTAC between the KAILL, GA, WP and the JOHNN, GA, WP; adds the JAMIZ, FL, WP between the JOHNN, GA, and BRUTS, FL, WPs; and adds the JINOS, FL, WP between the BRUTS, FL, and the KPASA, FL, WPs. Additionally, the route is extended to the south of the KPASA, FL, WP to the PEAKY, FL, WP (near Marathon in the Florida Keys). The SHEEK, FL, WP; CHRRI, FL, fix; FEMID, FL, WP and BRIES, FL, WPs are added between the KPASA, FL WP and the PEAKY, FL WP. Q-118 provides linkage to routes from the Caribbean area.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing 16 high altitude area navigation (RNAV) routes (Q-routes), and modifying 7 existing Q-routes, in support of the Florida Metroplex Project qualifies for categorical exclusion under the National Environmental Policy Act and its implementing regulations at 40 CFR part 1500, and in accordance with FAA Order 1050.1F—Environmental Impacts: Policies and Procedures, paragraph 5-6.5i—Establishment of new or revised air traffic control procedures conducted at 3,000 feet or more above ground level (AGL), procedures conducted below 3,000 feet AGL that do not cause traffic to be routinely routed over noise sensitive areas, modifications to currently approved procedures conducted below 3,000 feet AGL that do not significantly increase noise over noise sensitive areas; and increases in minimum altitudes and landing minima. As such, this action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 2006 United States Area Navigation Routes.

Q-75 ENEME, GA to Greensboro, NC (GSO) [New]
ENEME, GA | WP | (Lat. 30°42′12.09″ N, long. 082°26′09.31″ W)
TEUFL, GA | WP | (Lat. 31°52′00.46″ N, long. 082°01′04.56″ W)
TEEEM, GA | WP | (Lat. 32°08′41.20″ N, long. 081°54′50.57″ W)
SHRIL, GA | WP | (Lat. 32°54′42.21″ N, long. 081°34′09.78″ W)
FISHO, SC | WP | (Lat. 33°16′46.25″ N, long. 081°24′43.52″ W)
ILBEE, SC | WP | (Lat. 34°18′41.66″ N, long. 081°01′07.88″ W)
SLOJO, SC | WP | (Lat. 34°38′46.31″ N, long. 080°39′25.63″ W)
Greensboro, NC (GSO) | VORTAC | (Lat. 36°02′44.49″ N, long. 079°58′34.95″ W)
Q-77 OCTAL, FL to WIGVO, GA [New]
OCTAL, FL | WP | (Lat. 26°09′01.91″ N, long. 080°06′37.51″ W)
MATLK, FL | WP | (Lat. 27°49′36.54″ N, long. 080°57′04.27″ W)
STYMY, FL | WP | (Lat. 28°01′09.65″ N, long. 081°08′41.27″ W)
WAKKO, FL | WP | (Lat. 28°18′00.69″ N, long. 081°24′53.94″ W)
WASUL, FL | WP | (Lat. 28°41′10.59″ N, long. 081°35′14.53″ W)
MJAMS, FL | WP | (Lat. 28°55′37.59″ N, long. 081°36′33.30″ W)
ETORE, FL | WP | (Lat. 29°41′49.00″ N, long. 081°40′47.75″ W)
SHRKS, FL | WP | (Lat. 30°37′23.23″ N, long. 081°45′59.13″ W)
TEUFL, GA | WP | (Lat. 31°52′00.46″ N, long. 082°01′04.56″ W)
WIGVO, GA | WP | (Lat. 32°27′24.00″ N, long. 082°02′18.00″ W)
Q-79 MCLAW, FL to Atlanta, GA (ATL) [New]
MCLAW, FL | WP | (Lat. 24°33′49.00″ N, long. 081°01′00.00″ W)
VAULT, FL | WP | (Lat. 24°45′54.75″ N, long. 081°00′33.72″ W)
FEMID, FL | WP | (Lat. 26°06′29.59″ N, long. 081°27′23.07″ W)
WULFF, FL | WP | (Lat. 27°04′03.14″ N, long. 081°58′44.99″ W)
MOLIE, FL | WP | (Lat. 28°01′55.53″ N, long. 082°18′25.55″ W)
DOFFY, FL | WP | (Lat. 29°15′22.73″ N, long. 082°31′38.10″ W)
YUESS, GA | WP | (Lat. 31°41′00.00″ N, long. 083°33′31.20″ W)
Atlanta, GA (ATL) | VORTAC | (Lat. 33°37′44.68″ N, long. 084°26′06.23″ W)
Q-81 TUNSL, FL to HONID, GA [New]
TUNSL, FL | WP | (Lat. 24°54′02.43″ N, long. 081°31′02.80″ W)
KARTR, FL FIX | WP | (Lat. 25°29′45.76″ N, long. 081°30′46.24″ W)
FIPES, OG | WP | (Lat. 25°41′30.15″ N, long. 081°37′13.79″ W)
THMPR, FL | WP | (Lat. 26°46′00.21″ N, long. 082°20′23.99″ W)
LEEHI, FL | WP | (Lat. 27°07′21.91″ N, long. 082°34′54.57″ W)
FARLU, FL | WP | (Lat. 27°45′32.56″ N, long. 082°50′43.77″ W)
ENDEW, FL | WP | (Lat. 28°18′01.73″ N, long. 082°55′56.70″ W)
BITNY, OG | WP | (Lat. 28°46′11.98″ N, long. 083°07′53.01″ W)
NICKI, FL | WP | (Lat. 29°15′20.19″ N, long. 083°20′31.80″ W)
HONID, GA | WP | (Lat. 31°38′50.31″ N, long. 084°23′42.60″ W)
Q-83 JEVED, GA to SLOJO, SC [New]
JEVED, GA | WP | (Lat. 31°15′02.60″ N, long. 081°03′40.14″ W)
ROYCO, GA | WP | (Lat. 31°35′10.38″ N, long. 081°02′22.45″ W)
TAALN, GA | WP | (Lat. 31°59′56.18″ N, long. 081°01′41.91″ W)
KONEY, SC | WP | (Lat. 32°17′01.62″ N, long. 081°01′23.79″ W)
WURFL, SC | WP | (Lat. 32°31′46.59″ N, long. 081°01′08.07″ W)
EFFAY, SC | WP | (Lat. 34°15′30.67″ N, long. 080°30′37.94″ W)
SLOJO, SC | WP | (Lat. 34°38′46.31″ N, long. 080°39′25.63″ W)
Q-85 LPERD, FL to SMPRR, NC [New]
LPERD, FL | WP | (Lat. 30°36′09.18″ N, long. 081°16′52.16″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
Q-87 PEAKY, FL to LCAPE, SC [New]
PEAKY, FL | WP | (Lat. 24°35′23.72″ N, long. 081°08′53.91″ W)
GOPEY, FL | WP | (Lat. 25°09′32.92″ N, long. 081°05′17.11″ W)
GRIDS, FL | WP | (Lat. 26°24′54.27″ N, long. 080°57′11.40″ W)
TIRCO, FL | WP | (Lat. 27°19′05.75″ N, long. 080°51′16.67″ W)
MATLK, FL | WP | (Lat. 27°49′36.54″ N, long. 080°57′04.27″ W)
ONEWY, FL | WP | (Lat. 28°21′53.66″ N, long. 081°03′21.04″ W)
ZERBO, FL | WP | (Lat. 28°54′56.68″ N, long. 081°17′40.13″ W)
DUCEN, FL | WP | (Lat. 29°16′33.83″ N, long. 081°19′23.24″ W)
FEMON, FL | WP | (Lat. 30°27′31.57″ N, long. 081°23′36.20″ W)
VIYAP, GA FIX | WP | (Lat. 31°15′08.15″ N, long. 081°26′08.18″ W)
TAALN, GA | WP | (Lat. 31°59′56.18″ N, long. 081°01′41.91″ W)
JROSS, SC | WP | (Lat. 32°42′40.00″ N, long. 080°37′38.00″ W)
RAYVO, SC | WP | (Lat. 33°38′44.12″ N, long. 080°04′00.84″ W)
HINTZ, SC | WP | (Lat. 34°10′11.02″ N, long. 079°44′48.12″ W)
REDFH, SC | WP | (Lat. 34°22′36.35″ N, long. 079°37′08.34″ W)
LCAPE, SC | WP | (Lat. 34°33′03.47″ N, long. 079°30′39.47″ W)
Q-89 MANLE, FL to Atlanta, GA (ATL) [New]
MANLE, FL | WP | (Lat. 28°42′26.16″ N, long. 080°24′23.71″ W)
WAKUP, FL | WP | (Lat. 28°51′47.62″ N, long. 080°40′26.97″ W)
PRMUS, FL | WP | (Lat. 29°49′05.67″ N, long. 081°07′20.74″ W)
SHRKS, FL | WP | (Lat. 30°37′23.23″ N, long. 081°45′59.13″ W)
YANTI, GA | WP | (Lat. 31°47′22.38″ N, long. 082°51′32.65″ W)
Atlanta, GA (ATL) | VORTAC | (Lat. 33°37′44.68″ N, long. 084°26′06.23″ W)
Q-93 MCLAW, FL to QUIWE, SC [New]
MCLAW, FL | WP | (Lat. 24°33′49.00″ N, long. 081°01′00.00″ W)
VAULT, FL | WP | (Lat. 24°45′54.75″ N, long. 081°00′33.72″ W)
LINEY, FL | WP | (Lat. 25°16′44.02″ N, long. 080°53′15.43″ W)
FOBIN, FL | WP | (Lat. 25°47′02.00″ N, long. 080°46′00.89″ W)
EBAYY, FL | WP | (Lat. 27°43′40.20″ N, long. 080°30′03.59″ W)
MALET, FL FIX | WP | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
GIPPL, GA | WP | (Lat. 31°22′53.96″ N, long. 081°09′53.70″ W)
ISUZO, GA | WP | (Lat. 31°57′47.85″ N, long. 081°14′14.79″ W)
FISHO, SC | WP | (Lat. 33°16′46.25″ N, long. 081°24′43.52″ W)
QUIWE, SC | WP | (Lat. 33°57′05.56″ N, long. 081°30′07.93″ W)
Q-97 TOVAR, FL to ELLDE, NC [New]
TOVAR, FL | WP | (Lat. 26°33′05.09″ N, long. 080°02′19.75″ W)
EBAYY, FL | WP | (Lat. 27°43′40.20″ N, long. 080°30′03.59″ W)
MALET, FL FIX | WP | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELMSZ, SC | WP | (Lat. 33°40′36.61″ N, long. 079°17′59.56″ W)
YURCK, NC | WP | (Lat. 34°11′14.80″ N, long. 078°52′40.62″ W)
ELLDE, NC | WP | (Lat. 34°24′14.57″ N, long. 078°41′50.60″ W)
Q99 DOFFY, FL to POLYY, NC [New]
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
Q-109 DOFFY, FL to LAANA, NC [New]
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, SC | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
Q-113 RAYVO, SC to SARKY, SC [New]
RAYVO, SC | WP | (Lat. 33°38′44.12″ N, long. 080°04′00.84″ W)
CEELY, SC | WP | (Lat. 34°12′54.72″ N, long. 079°27′57.01″ W)
SARKY, SC | WP | (Lat. 34°25′41.43″ N, long. 079°14′17.50″ W)
Q-135 JROSS, SC to RAPZZ, NC [New]
JROSS, SC | WP | (Lat. 32°42′40.00″ N, long. 080°37′38.00″ W)
PELIE, SC | WP | (Lat. 33°21′23.88″ N, long. 079°44′43.43″ W)
ELMSZ, SC | WP | (Lat. 33°40′36.61″ N, long. 079°17′59.56″ W)
RAPZZ, NC | WP | (Lat. 34°15′03.34″ N, long. 078°29′17.58″ W)
Q-172 YUTEE, SC to RAPZZ, NC [New]
YUTEE, SC | WP | (Lat. 33°47′28.54″ N, long. 081°33′19.15″ W)
BWAGS, SC | WP | (Lat. 34°00′03.77″ N, long. 080°45′12.26″ W)
HINTZ, SC | WP | (Lat. 34°10′11.02″ N, long. 079°44′48.12″ W)
CEELY, SC | WP | (Lat. 34°12′54.72″ N, long. 079°27′57.01″ W)
OKNEE, SC | WP | (Lat. 34°15′39.92″ N, long. 079°10′40.68″ W)
KAATT, NC | WP | (Lat. 34°15′35.43″ N, long. 078°59′42.38″ W)
RAPZZ, NC | WP | (Lat. 34°15′03.34″ N, long. 078°29′17.58″ W)
Q-409 ENEME, GA to MRPIT, NC [New]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
JROSS, SC | WP | (Lat. 32°42′40.00″ N, long. 080°37′38.00″ W)
SESUE, SC | WP | (Lat. 33°52′02.58″ N, long. 079°33′51.88″ W)
OKNEE, SC | WP | (Lat. 34°15′39.92″ N, long. 079°10′40.68″ W)
MRPIT, NC | WP | (Lat. 34°26′05.09″ N, long. 079°01′45.10″ W)
Q-65 KPASA, FL to Rosewood, OH (ROD) [Amended]
KPASA, FL | WP | (Lat. 28°10′34.00″ N, long. 081°54′27.00″ W)
DOFFY, FL | WP | (Lat. 29°15′22.73″ N, long. 082°31′38.10″ W)
FETAL, FL | WP | (Lat. 30°11′03.69″ N, long. 082°30′24.76″ W)
ENEME, GA | WP | (Lat. 30°42′12.09″ N, long. 082°26′09.31″ W)
JEFOI, GA | WP | (Lat. 31°35′37.02″ N, long. 082°31′18.38″ W)
TRASY, GA | WP | (Lat. 31°55′25.92″ N, long. 082°35′50.51″ W)
CESKI, GA | WP | (Lat. 32°16′21.27″ N, long. 082°40′38.96″ W)
DAREE, GA | WP | (Lat. 34°37′35.72″ N, long. 083°51′35.03″ W)
LORNN, TN | WP | (Lat. 35°21′16.33″ N, long. 084°14′19.35″ W)
SOGEE, TN | WP | (Lat. 36°31′50.64″ N, long. 084°11′35.39″ W)
ENGRA, KY | WP | (Lat. 37°29′02.34″ N, long. 084°15′02.15″ W)
OCASE, KY | WP | (Lat. 38°23′59.05″ N, long. 084°11′05.32″ W)
Rosewood, OH (ROD) | VORTAC | (Lat. 40°17′16.08″ N, long. 084°02′35.15″ W)
Q-69 VIYAP, GA to RICCS, WV [Amended]
VIYAP, GA FIX | WP | (Lat. 31°15′08.15″ N, long. 081°26′08.18″ W)
OLBEC, GA | WP | (Lat. 31°28′32.85″ N, long. 081°26′17.61″ W)
ISUZO, GA | WP | (Lat. 31°57′47.85″ N, long. 081°14′14.79″ W)
GURGE, SC | WP | (Lat. 32°29′02.26″ N, long. 081°12′41.48″ W)
BLAAN, SC | WP | (Lat. 33°51′09.38″ N, long. 080°53′32.78″ W)
EMCET, SC | WP | (Lat. 34°09′41.99″ N, long. 080°50′12.51″ W)
RYCKI, NC | WP | (Lat. 36°24′43.05″ N, long. 080°25′07.50″ W)
LUNDD, VA | WP | (Lat. 36°44′22.38″ N, long. 080°21′07.11″ W)
ILLSA, VA | WP | (Lat. 37°38′55.85″ N, long. 080°13′18.44″ W)
EWESS, WV | WP | (Lat. 38°21′50.31″ N, long. 080°06′52.03″ W)
RICCS, WV | WP | (Lat. 38°55′14.65″ N, long. 080°05′01.68″ W)
Q-103 CYNTA, GA to AIRRA, PA [Amended]
CYNTA, GA | WP | (Lat. 30°36′27.06″ N, long. 082°05′35.45″ W)
PUPYY, GA | WP | (Lat. 31°24′35.58″ N, long. 081°49′06.19″ W)
RIELE, SC | WP | (Lat. 32°37′27.14″ N, long. 081°23′34.97″ W)
EMCET, SC | WP | (Lat. 34°09′41.99″ N, long. 080°50′12.51″ W)
SLOJO, SC | WP | (Lat. 34°38′46.31″ N, long. 080°39′25.63″ W)
Pulaski, VA (PSK) | VORTAC | (Lat. 37°05′15.74″ N, long. 080°42′46.44″ W)
ASBUR, WV FIX | WP | (Lat. 37°49′24.41″ N, long. 080°27′51.44″ W)
OAKLE, WV FIX | WP | (Lat. 38°07′13.80″ N, long. 080°21′44.84″ W)
PERRI, WV FIX | WP | (Lat. 38°17′50.49″ N, long. 080°18′05.11″ W)
PERKS, WV FIX | WP | (Lat. 38°39′40.84″ N, long. 080°10′29.36″ W)
RICCS, WV | WP | (Lat. 38°55′14.65″ N, long. 080°05′01.68″ W)
EMNEM, WV | WP | (Lat. 39°31′27.12″ N, long. 080°04′28.21″ W)
AIRRA, PA | WP | (Lat. 41°06′16.48″ N, long. 080°03′48.73″ W)
Q-104 ACORI, AL to St Petersburg, FL (PIE) [Amended]
ACORI, AL | WP | (Lat. 31°46′23.36″ N, long. 085°51′29.51″ W)
CABLO, GA | WP | (Lat. 30°46′29.00″ N, long. 084°50′24.00″ W)
HEVVN, FL FIX | WP | (Lat. 29°49′19.11″ N, long. 083°53′42.89″ W)
LEGGT, FL FIX | (Lat. 29°13′22.56″ N, long. 083°30′38.60″ W)
PLYER, FL FIX | WP | (Lat. 28°56′51.36″ N, long. 083°20′08.59″ W)
SWABE, FL FIX | WP | (Lat. 28°35′16.32″ N, long. 083°06′31.16″ W)
ENDEW, FL | WP | (Lat. 28°18′01.73″ N, long. 082°55′56.70″ W)
St Petersburg, FL (PIE) | VORTAC | (Lat. 27°54′27.95″ N, long. 082°41′03.51″ W)
Q-110 BLANS, IL to OCTAL, FL [Amended]
BLANS, IL | WP | (Lat. 37°28′09.27″ N, long. 088°44′00.68″ W)
BETIE, TN | WP | (Lat. 36°07′29.88″ N, long. 087°54′01.48″ W)
SKIDO, AL | WP | (Lat. 34°31′49.10″ N, long. 086°53′11.16″ W)
BFOLO, AL | WP | (Lat. 34°03′33.98″ N, long. 086°31′30.49″ W)
JYROD, AL | WP | (Lat. 33°10′53.29″ N, long. 085°51′54.85″ W)
DAWWN, GA | WP | (Lat. 31°28′49.96″ N, long. 084°36′46.69″ W)
JOKKY, FL | WP | (Lat. 30°11′31.47″ N, long. 083°38′41.86″ W)
AMORY, FL | WP | (Lat. 29°13′17.02″ N, long. 082°55′42.90″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.91″ N, long. 080°06′37.51″ W)
Q-116 Vulcan, AL (VUZ) to OCTAL, FL [Amended]
Vulcan, AL (VUZ) | VORTAC | (Lat. 33°40′12.48″ N, long. 086°53′59.41″ W)
DEEDA, GA | WP | (Lat. 31°34′13.55″ N, long. 085°00′31.10″ W)
JAWJA, FL | WP | (Lat. 30°10′25.55″ N, long. 083°48′58.94″ W)
MICES, FL | WP | (Lat. 29°51′37.65″ N, long. 083°33′18.30″ W)
PATOY, FL | WP | (Lat. 29°03′52.49″ N, long. 082°54′00.09″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.91″ N, long. 080°06′37.51″ W)
Q-118 Marion, IN (MZZ) to PEAKY, FL [Amended]
Marion, IN (MZZ) | VOR/DME | (Lat. 40°29′35.99″ N, long. 085°40′45.30″ W)
HEVAN, IN | WP | (Lat. 39°21′08.86″ N, long. 085°07′46.70″ W)
VOSTK, KY | WP | (Lat. 38°28′15.86″ N, long. 084°43′03.58″ W)
HELUB, KY | WP | (Lat. 37°42′54.84″ N, long. 084°44′28.31″ W)
JEDER, KY | WP | (Lat. 37°19′30.54″ N, long. 084°45′14.17″ W)
GLAZR, TN | WP | (Lat. 36°25′20.78″ N, long. 084°46′49.29″ W)
KAILL, GA | WP | (Lat. 34°01′47.21″ N, long. 084°31′24.18″ W)
Atlanta, GA (ATL) | VORTAC | (Lat. 33°37′44.68″ N, long. 084°26′06.23″ W)
JOHNN, GA | FIX | (Lat. 31°31′22.94″ N, long. 083°57′26.55″ W)
JAMIZ, FL | WP | (Lat. 30°13′46.91″ N, long. 083°19′27.78″ W)
BRUTS, FL | WP | (Lat. 29°30′58.00″ N, long. 082°58′57.00″ W)
JINOS, FL | WP | (Lat. 28°27′45.60″ N, long. 082°08′04.60″ W)
KPASA, FL | WP | (Lat. 28°10′34.00″ N, long. 081°54′27.00″ W)
SHEEK, FL | WP | (Lat. 27°35′15.40″ N, long. 081°46′27.82″ W)
CHRRI, FL | FIX | (Lat. 27°03′00.70″ N, long. 081°39′14.81″ W)
FEMID, FL | WP | (Lat. 26°06′29.59″ N, long. 081°27′23.07″ W)
BRIES, FL | WP | (Lat. 25°03′56.03″ N, long. 081°14′38.35″ W)
PEAKY, FL | WP | (Lat. 24°35′23.72″ N, long. 081°08′53.91″ W)

Issued in Washington, DC, on August 20, 2018.
Rodger A. Dean, Jr.,
Manager, Airspace Policy Group.

[FR Doc. 2018-18508 Filed 8-27-18; 8:45 am]

BILLING CODE 4910-13-P